NUCLEAR REGULATORY COMMISSION

[Docket Nos. 50-438 and 50-439]

In the Matters of Tennessee Valley Authority (Bellefonte Nuclear Plant, Units 1 and 2); Order

I

The Tennessee Valley Authority (TVA, or the applicant) is the current holder of Construction Permit Nos. CPPR-122 and CPPR-123, issued by the Atomic Energy Commission on December 12, 1974, for construction of the Bellefonte Nuclear Plant, Units 1 and 2. These facilities are currently in deferral status as described in the U.S. Nuclear Regulatory Commission's (NRC's) Generic Letter 87-15 at the applicant's site in Jackson County, Alabama, on a peninsula at Tennessee River Mile 392 on the west shore of Guntersville Reservoir, about 6 miles east-northeast of Scottsboro, Alabama.

On July 11, 2001, TVA filed a request pursuant to 10 CFR 50.55(b) for extensions of the expiration dates for Construction Permit Nos. CPPR-122 AND CPPR-123. Construction activities at the Bellefonte site had been deferred in 1988 due, in part, to a lower-than-expected electrical load forecast within the TVA service area. At the present time, Bellefonte Unit 1 is about 88 percent complete and Bellefonte Unit 2 is about 58 percent complete. On March 23, 1993, TVA notified the NRC that it planned to resume completion activities 120 days from the date of their letter. However, as a result of the delay from the inactivity during the construction deferral and a need to conduct an Integrated Resource Planning process to consider the lowest cost options for providing an adequate supply of electricity to TVA's customers pursuant to the provisions of the Energy Policy Act of 1992, TVA was unable to complete the construction of the two units before the original expiration dates, July 1, 1994, for Unit 1 and July 1, 1996, for Unit 2. In response to a request from TVA dated April 19, 1994, the NRC extended the construction permit expiration dates for Bellefonte Units 1 and 2 to October 1, 2001, and October 1, 2004, respectively, in a letter dated June 27, 1994. That letter transmitted an Order signed by William T. Russell and a Safety Evaluation prepared by the NRC staff.

In the current July 11, 2001, TVA request for extending the Bellefonte construction permit expiration dates, TVA stated that the extension of the Bellefonte construction permits will help TVA to maintain a full scope of competitive energy production choices. TVA's integrated resource plan, Energy Vision 2020, identified the need for a flexible range of options and alternatives to meet, among other things, the Tennessee Valley region's new base-load power supply needs through the year 2020. Recent record-breaking energy demands in the Tennessee Valley have reinforced TVA's obligation to provide ample safe, economic, reliable, and environmentally responsible sources of electric power. Fulfilling this responsibility, TVA seeks to maintain a robust and flexible range of generating options. These uncertainties, and the delay due to the extended construction inactivity at the site, provide good cause for extending the construction permits for Bellefonte Nuclear Plant, Units 1 and 2.

The NRC notes that there is renewed interest in completing at least Bellefonte Unit 1, possibly with financial assistance from outside parties. Recent NRC inspections have also verified that TVA is appropriately maintaining the Bellefonte units in a condition for continuation of construction and ultimate licensing for operation.

II

The NRC staff has concluded that good cause has been shown for the delays, the extensions are sought for a reasonable period, and this action involves no significant hazards consideration. The basis for these conclusions is given in the staff's Safety Evaluation.

The NRC staff has prepared an Environmental Assessment and Finding of No Significant Impact, which was published in the Federal Register on January 24, 2003 (68 FR 3571). Pursuant to 10 CFR 51.32, the Commission has determined that extending the construction completion dates will have no significant impact on the environment.

For further details with respect to the proposed action, see the licensee's letter dated July 11, 2001. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

III

It is hereby ordered that the latest construction completion date for Construction Permit No. CPPR-122 is extended to October 1, 2011, and the latest construction completion date for Construction Permit No. CPPR-123 is extended to October 1, 2014.

For the Nuclear Regulatory Commission.
Dated in Rockville, Maryland this 4th day of March, 2003.
Richard W. Borchardt,
Acting Director, Office of Nuclear Reactor Regulation.

[FR Doc. 03-5607 Filed 3-7-03; 8:45 am]

BILLING CODE 7590-01-P